ENVIRONMENTAL PROTECTION AGENCY

[EPA-HQ-OW-2016-0686; FRL-9959-40-OW]

Extension of Comment Period To Review Materials To Inform the Derivation of a Water Concentration Value for Lead in Drinking Water

AGENCY: Environmental Protection Agency (EPA).

ACTION: Notice of extension of public comment period.

SUMMARY: The U.S. Environmental Protection Agency (EPA) is extending the comment period to “Review Materials to Inform the Derivation of a Water Concentration Value for Lead in Drinking Water.” In response to a stakeholder request, EPA is extending the comment period for an additional 30 days, from March 6, 2017, to April 5, 2017.

DATES: The comment period announced in the notice that was published on January 19, 2017 (82 FR 6546), is extended. Comments must be received on or before April 5, 2017.

ADDRESSES: Submit your comments on the draft lead modeling report and draft peer review panel charge questions, identified by Docket ID No. EPA-HQ-OW-2016-0686, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment content located outside of the primary submission (i.e., on the Web, cloud, or other file sharing system). For additional submission methods, the full EPA public comment policy, information about CBI or multimedia submissions, and general guidance on making effective comments, please visit http://www2.epa.gov/dockets/commenting-epa-dockets.

FOR FURTHER INFORMATION CONTACT: Erik Helm at the EPA, Office of Ground Water and Drinking Water (Mail Code 4607M), 1200 Pennsylvania Avenue NW., Washington, DC 20460; by phone: 202-566-1049; or by email: helm.erik@epa.gov.

SUPPLEMENTARY INFORMATION: On January 19, 2017, EPA released materials for public comment that relate to the expert external peer review of documents intended to support the EPA's Safe Drinking Water Act assessment of lead in drinking water. The notice specified that the public comment period would end on March 6, 2017, 45 days after publication in the Federal Register. On February 2, 2017, EPA received a request from the American Water Works Association to extend the comment period in order to have more time to evaluate the analysis and provide informative comments. EPA is extending the deadline for written comments on the draft lead modeling report and draft peer review panel charge questions for an additional 30 days, from March 6, 2017, to April 5, 2017. Please note, this notice does not extend the public comment period for nominations of peer review candidates. The deadline for nominating peer review candidates remains at February 21, 2017.

Dated: February 8, 2017.
Peter Grevatt,
Director, Office of Ground Water and Drinking Water.

[FR Doc. 2017-03466 Filed 3-3-17; 8:45 am]

BILLING CODE 6560-50-P